SURFACE TRANSPORTATION BOARD

[Docket No. FD 36103]

Hussey Terminal Railroad Company—Acquisition and Operation Exemption—2nd & Main, LLC

Hussey Terminal Railroad Company (HTRC), a noncarrier, has filed a verified notice of exemption under 49 CFR 1150.31 to acquire from 2nd & Main, LLC (2ML), and operate approximately 540 feet of rail line in North Chicago, in Lake County, Ill. (the Line).¹ According to HTRC, there are no milepost designations on the Line.

¹ 2ML obtained an exemption to acquire the Line in 2nd & Main, LLC—Acquisition & Operation Exemption—Norland North Chicago, LLC, FD 36106 (STB served March 22, 2017). HTRC's notice of exemption in this case was held in abeyance by a decision served on March 23, 2017, so that 2ML's exemption to acquire the Line in Docket No. FD 36106 could become effective first.

The Line extends between a point of connection on its north end to a main line of of Elgin, Joliet & Eastern Railway Company (presently, Canadian National Railway Company (CN)), and a point of connection on its southwest end to a main line of Chicago & North Western Railway Company (presently, Union Pacific Railroad Company (UP)).

In an agreement dated January 4, 1916, Michael H. Hussey and Margaret Hussey conveyed to North Chicago Lumber and Coal Co. (NCLC) and North Chicago Foundry Company (NCFC) the right, easement, and privilege to use the Line for any purpose and in any manner necessary or convenient to their businesses.

2ML is a successor-in-interest of NCLC. 2ML's shipping facility is located near the Line's point of connection to UP. According to HTRC, a portion of the Line north and east of 2ML's facility has been removed and/or blocked by a building constructed by a third party, and is not possible at this time for HTRC to operate to the point of connection with CN. It is the intention of 2ML and HTRC to take steps to restore rail operations to the CN connection. HTRC indicates that sufficient trackage is in place between 2ML's facility and the point of connection with UP to enable rail shipments to travel over the trackage. 2ML and HTRC state it is their intention to rehabilitate the trackage as necessary and interchange shipments with UP.

HTRC certifies that its projected annual revenues as a result of this transaction will not exceed those that would qualify it as a Class III rail carrier and will not exceed $5 million. HTRC further certifies that there are no interchange commitments.

The transaction may be consummated on or after May 16, 2017, the effective date of the exemption. If the verified notice contains false or misleading information, the exemption is void ab initio. Petitions to revoke the exemption under 49 U.S.C. 10502(d) may be filed at any time. The filing of a petition to revoke will not automatically stay the effectiveness of the exemption. Petitions to stay must be filed no later than May 9, 2017 (at least seven days before the exemption becomes effective).

An original and 10 copies of all pleadings, referring to Docket No. FD 36103, must be filed with the Surface Transportation Board, 395 E Street SW., Washington, DC 20423-0001. In addition, a copy of each pleading must be served on Thomas F. McFarland, 208 South LaSalle St., Suite 1666, Chicago, IL 60604-1228.

Board decisions and notices are available on our Web site at “WWW.STB.GOV.”

Decided: April 27, 2017.
By the Board, Rachel D. Campbell, Director, Office of Proceedings.
Raina S. Contee,
Clearance Clerk.

[FR Doc. 2017-08840 Filed 5-1-17; 8:45 am]

BILLING CODE 4915-01-P